DEPARTMENT OF HEALTH AND HUMAN SERVICES

Administration for Children and Families

Proposed Information Collection Activity; Temporary Assistance for Needy Families Expenditure Report, Form ACF-196R

AGENCY: Office of Family Assistance, Administration for Children and Families, United States Department of Health and Human Services.

ACTION: Request for public comments.

SUMMARY: The Administration for Children and Families (ACF) Office of Family Assistance (OFA) is requesting a 3-year extension of the Temporary Assistance for Needy Families (TANF) Expenditure Report, Form ACF-196R (Office of Management and Budget #0970-0446 expires February 29, 2024). ACF is proposing minor updates to the form to update references to lapsed timeframes, demonstrative tables that aid in a recipient's comprehension of reporting requirements and minor edits to the instructions and formatting to improve presentation.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: Form ACF-196R is used by states administering the TANF program to report quarterly expenditure data and to request quarterly grant funds. Failure to collect the data would seriously compromise OFA's and ACF ability to monitor TANF expenditures and compliance with statutory requirements. These data are also needed to estimate outlays and to prepare reports and budget submissions for Congress.

Respondents: State agencies administering the TANF program (50 States and the District of Columbia)

Annual Burden Estimates
Instrument | Total number of respondents | Annual number of responses per respondent | Average burden hours per response | Annual burden hours
Form ACF-196R | 51 | 4 | 14 | 2,856

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Social Security Act, Section 409; 45 CFR 265.3-265.9.

Mary B. Jones,
ACF/OPRE Certifying Officer.

[FR Doc. 2023-19817 Filed 9-13-23; 8:45 am]

BILLING CODE 4184-36-P